DEPARTMENT OF ENERGY

Federal Energy Regulatory Commission

[Project No. 11566-000 Maine]

Ridgewood Maine Hydro Partners, L.P.; Notice of Availability of Draft Environmental Assessment

January 30, 2002.

In accordance with the National Environmental Policy Act of 1969 and the Federal Energy Regulatory Commission's (Commission) regulations, 18 CFR part 380 (Order No. 486,52 F.R. 47879), the Office of Energy Projects has reviewed the application for license for the Damariscotta Mills project, located on the Damariscotta River, in Lincoln, County, Maine, and has prepared a Draft Environmental Assessment (DEA) for the project. There are no federal lands occupied by the project works or located within the project boundary.

The DEA contains the staff's analysis of the potential environmental impacts of the project and concludes that licensing the project, with appropriate environmental protective measures, would not constitute a major federal action that would significantly affect the quality of the human environment.

A copy of the DEA is on file with the Commission and is available for public inspection. The DEA may also be viewed on the web at http://www.ferc.gov using the “RIMS” link—select “Docket#” and follow the instructions (call 202-208-2222 for assistance).

Any comments should be filed within 45 days from the date of this notice and should be addressed to Magalie R. Salas, Secretary, Federal Energy Regulatory Commission, 888 First Street, NE., Washington, DC 20426. Please affix the Project No. 11566 to the comments. Comments may be filed electronically via the Internet in lieu of paper. See 18 CFR 385.2001(a)(1)(iii) and the instructions on the Commission's Web site under the “e-Filing” link.

For further information, contact Michael Spencer at 202-219-2846.

Linwood A. Watson, Jr.,
Acting Secretary.

[FR Doc. 02-2732 Filed 2-4-02; 8:45 am]

BILLING CODE 6717-01-P